DEPARTMENT OF STATE

[Public Notice 5261]

Announcement of Meetings of the International Telecommunication Advisory Committee

SUMMARY: This notice corrects meeting days (not dates) announced in Notice 5219. The International Telecommunication Advisory Committee announces meetings to prepare for the Organization of American States CITEL Assembly 2006.

The International Telecommunication Advisory Committee (ITAC) will meet on each Wednesday 2-4 p.m. during January and February starting January 11, 2006 to prepare for the 2006 ITU Plenipotentiary Conference. The meetings will be held at the offices of AT&T, 1120 20th Street, NW., Washington, DC. A conference bridge will be provided. Directions to the venue of the meeting may be obtained from Julian Minard minardje@state.gov.

The International Telecommunication Advisory Committee (ITAC) will meet on each Thursday 2-4 p.m. during January and February starting January 12, 2006 to prepare for the 2006 ITU Telecommunication Development Conference. A conference bridge will be provided. Directions to the venue of the meeting may be obtained from Julian Minard minardje@state.gov.

The International Telecommunication Advisory Committee (ITAC) will meet on Tuesday January 31 and February 14, 2006 both 2-4 p.m. to prepare for the 2006 OAS CITEL Assembly. A conference bridge will be provided. Directions to the venue of the meeting may be obtained from Julian Minard minardje@state.gov.

Dated: January 5, 2006.
Douglas R. Spalt,
Telcom Officer, International Communications & Information Policy, Department of State.

[FR Doc. E6-248 Filed 1-11-06; 8:45 am]

BILLING CODE 4710-07-P